POSTAL SERVICE

39 CFR Part 111

Priority Mail Express Service Standard

AGENCY: Postal Service™.

ACTION: Final rule.

SUMMARY: The Postal Service is amending Mailing Standards of the United States Postal Service, Domestic Mail Manual (DMM®) in various sections to refine the service standard for domestic retail and commercial Priority Mail Express® delivery service.

DATES: Effective Date: April 1, 2025.

FOR FURTHER INFORMATION CONTACT: Catherine Knox at (202) 268-5636 or Garry Rodriguez at (202) 268-7281.

SUPPLEMENTARY INFORMATION: The Postal Service is refining the service standard for domestic retail and commercial Priority Mail Express service to align with operational initiatives that the Postal Service is implementing on a nationwide basis to fundamentally transform our processing and transportation networks to achieve greater operational precision and efficiency, significantly reduce costs, and enhance service pursuant to the Delivering for America strategic plan (DFA Plan). These operational initiatives will comprehensively transform the Postal Service's operations to address problems that exist today and create a network that enables the integrated movement of mail and packages in a precise and cost-effective manner consistent with best business practice far into the future. They should also lead to substantial cost savings (conservatively estimated at between $3.6 to $3.7 billion annually), which is critical given the Postal Service's current poor financial condition, which can be addressed only through comprehensive changes to reduce costs and increase efficiency (in conjunction with the other elements of the DFA Plan). To implement these initiatives and achieve these cost savings, the Postal Service must refine its service standards for all products, including Priority Mail Express.

The current Priority Mail Express service standard requires the Postal Service to conduct separate trips to drop off destinating volume from the processing network to collection/delivery facilities in the morning for delivery that day, and then pick-up originating volume from the collection/delivery facilities to the processing network in the afternoon, or alternatively pay Highway Contract Route contractors to layover for multiple hours between the outbound and return legs of their routes. Many of these trips transport low amounts of volume to and from collection/delivery facilities that are far from the Postal Service's processing facilities. The Postal Service's Regional Transportation Optimization (RTO) initiative will eliminate some of the costs and inefficiencies associated with these excess trips by allowing certain mail and packages to be picked up the next day from the Post Office on the same trip that also dropped off mail at that Post Office for delivery that day. The Postal Service will designate 5-digit ZIP Codes for RTO when a retail/collection facility servicing that 5-digit ZIP Code is more than 50 miles from the originating Regional Processing and Distribution Center or Campus (RPDC), though exceptions may apply based on operational or business considerations. Under the new service standard, many packages will receive the same service standard, while some packages would have a service expectation that is one delivery day longer than the current expectation.

On October 4, 2024, the Postal Service requested from the Postal Regulatory Commission (PRC) an advisory opinion on the service standard changes needed to implement RTO, including those described herein, together with a comprehensive strategy of network modernization, in accordance with 39 U.S.C. 3661(b). The PRC then initiated Docket No. N2024-1, in which the PRC's Presiding Officer, its appointed Public Representative, and members of the public were given an opportunity to actively participate. The PRC also conducted a formal hearing with testimony on the record. The Postal Service's proffered evidence demonstrates significant benefits to implementing these operational initiatives and corresponding service standards consistent with the policies enumerated in Title 39 of the United States Code: user-friendly service standards formulated at the 5-digit Zip Code level; significant cost savings from productivity enhancements, consolidated local transportation trips, streamlined transportation between facilities within the redesigned network, an air network reoriented around RPDCs, lease terminations, and facility closures, all of which are critically important to achieving long-term financial sustainability; and ultimately, more reliable, predictable, sustainable, and consistent service. The proceeding culminated in an advisory opinion issued by the PRC on January 31, 2025. A description of the advisory opinion and the Postal Service's response was published in the Federal Register on February 28, 2025, and is available here: https://www.federalregister.gov/documents/2025/02/28/2025-03168/service-standards for market dominant mail products.

As a result of this final rule, Priority Mail Express delivery service will have a 1-day, 2-day, or 3-day service standard depending on various factors, including the date on which the item is accepted by the Postal Service and the origin and destination 5-digit ZIP Code. This revision to refine the Priority Mail Express service standard will not affect any other current product features. Priority Mail Express will continue to be a money-back guaranteed product with delivery available 7 days a week in certain areas.

The Postal Service adopts the described changes to Mailing Standards of the United States Postal Service, Domestic Mail Manual (DMM), incorporated by reference in the Code of Federal Regulations.

We will publish an appropriate amendment to 39 CFR part 111 to reflect these changes.

List of Subjects in 39 CFR Part 111

Administrative practice and procedure, Postal Service.

Accordingly, the Postal Service amends Mailing Standards of the United States Postal Service, Domestic Mail Manual (DMM), incorporated by reference in the Code of Federal Regulations as follows (see 39 CFR 111.1):

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise Mailing Standards of the United States Postal Service, Domestic Mail Manual (DMM) as follows:

Mailing Standards of the United States Postal Service, Domestic Mail Manual (DMM)

* * * * *

100 Retail Mail Letters, Cards, Flats, and Parcels

* * * * *

110 Retail Mail Priority Mail Express

113 Prices and Eligibility

1.0 Prices and Fees

* * * * *

4.0 Service Features of Priority Mail Express

* * * * *

[Revise the heading of 4.2 to read as follows:]

4.2 Priority Mail Express Delivery

4.2.1 Availability

[Revise the text of 4.2.1 to read as follows:]

Priority Mail Express offers delivery in 1, 2, or 3 delivery days depending on various factors, including the date on which the item is deemed accepted by the Postal Service and the origin and destination ZIP Codes.

4.2.2 Acceptance

[Revise the text of 4.2.2 to read as follows:]

Priority Mail Express items must be presented no later than the local Post Office acceptance time. Priority Mail Express items mailed after the local Post Office acceptance time are deemed to have been mailed on the next day the office is open, subject to the standards for this service.

4.2.3 Delivery Time

[Revise the first sentence of 4.2.3 to read as follows:]

Items are delivered by 6 p.m. on the scheduled delivery day. If delivery is not made, the addressee is notified.* * *

4.2.4 Hold for Pickup

[Revise the text of 4.2.4 to read as follows:]

Except for Priority Mail Express mailpieces containing cremated remains, under Hold for Pickup service, items presented under 4.2 are available for pickup by the addressee at the destination facility by 6 p.m. of the scheduled delivery day that the destination office is open for retail business.

[Delete 4.3, Priority Mail Express 2-Day Delivery, in its entirety and renumber 4.4 as 4.3.]

* * * * *

115 Mail Preparation

* * * * *

[Revise the heading of 2.0 to read as follows:]

2.0 Priority Mail Express Labels

2.1 Mailing Label

[Revise the introductory text of 2.1 to read as follows:]

Priority Mail Express items must be labeled as follows:

* * * * *

[Delete 2.3, ZIP Code Determination, in its entirety.]

* * * * *

116 Deposit

[Revise the heading of 1.0 to read as follows:]

1.0 Priority Mail Express Deposit

* * * * *

200 Commercial Letters, Cards, Flats, and Parcels

* * * * *

210 Commercial Mail Priority Mail Express

213 Prices and Eligibility

1.0 Prices and Fees

* * * * *

4.0 Service Features of Priority Mail Express

* * * * *

[Revise the heading of 4.2 to read as follows:]

4.2 Priority Mail Express Delivery

4.2.1 Availability

[Revise the text of 4.2.1 to read as follows:]

Priority Mail Express offers delivery in 1, 2, or 3 delivery days depending on various factors, including the date on which the item is deemed accepted by the Postal Service and the origin and destination ZIP Codes.

4.2.2 Acceptance

[Revise the text of 4.2.2 to read as follows:]

Priority Mail Express items must be presented no later than the local Post Office acceptance time. Priority Mail Express items mailed after the local Post Office acceptance time are deemed to have been mailed on the next day the office is open, subject to the standards for this service.

4.2.3 Delivery Time

[Revise the first sentence of 4.2.3 to read as follows:]

Except for items endorsed “Guaranteed by End of Day” per an approved customer agreement, items are delivered by 6 p.m. on the scheduled delivery day.* * *

4.2.4 Hold for Pickup

[Revise the text of 4.2.4 to read as follows:]

Except for Priority Mail Express mailpieces containing cremated remains, under Hold for Pickup service, items presented under 4.2 are available for pickup by the addressee at the destination facility by 6 p.m. of the scheduled delivery day that the destination office is open for retail business.

[Delete 4.3, Priority Mail Express 2-Day Delivery, in its entirety and renumber 4.4 and 4.5 as 4.3 and 4.4.]

* * * * *

4.4 Open and Distribute

[Revise the text of renumbered 4.4 to read as follows:]

Priority Mail Express delivery service may be used to expedite movement of any other class of mail from one domestic USPS facility to another by Priority Mail Express Open and Distribute subject to the standards in 705.18.0.

* * * * *

215 Mail Preparation

* * * * *

[Revise the heading of 2.0 to read as follows:]

2.0 Priority Mail Express Labels

2.1 Mailing Label

[Revise the introductory text of 2.1 to read as follows:]

Priority Mail Express items must be labeled as follows:

* * * * *

[Revise the second sentence of item b to read as follows:]

b. * * * Mailers authorized to present Priority Mail Express items using a Priority Mail Express Manifesting System must follow label preparation procedures in Publication 97, Priority Mail Express Manifesting Business and Technical Guide.

* * * * *

[Delete 2.3, ZIP Code Determination, in its entirety.]

* * * * *

216 Enter and Deposit

[Revise the heading of 1.0 to read as follows:]

1.0 Priority Mail Express Enter and Deposit

[Revise the introductory text of 1.0 to read as follows:]

Commercial Priority Mail Express must be entered and deposited as follows:

[Revise items a and b by reversing the order. Revise the first sentence of reordered item a to read as follows:]

a. Items must be entered or deposited by the local Post Office designated acceptance time.* * *

* * * * *

500 Additional Mailing Services

503 Extra Services

1.0 Basic Standards for All Extra Services

* * * * *

1.4.1 Eligibility—Domestic Mail

* * * * *

Exhibit 1.4.1 Eligibility—Domestic Mail

EXTRA SERVICE ELIGIBLE MAIL ADDITIONAL COMBINED EXTRA SERVICES

* * * * *

[Revise the COD entry by deleting the parenthetical under Priority Mail Express.]

Collect on Delivery (COD) Priority Mail Express

COD Restricted Delivery

* * * * *

9.0 Collect on Delivery (COD)

9.1 Basic Standards

* * * * *

9.1.5 Priority Mail Express COD

[Revise the first sentence of 9.1.5 to read as follows:]

Any article sent COD also may be sent by Priority Mail Express when a signature is requested.* * *

* * * * *

600 Basic Standards for All Mailing Services

* * * * *

604 Postage Payment Methods and Refunds

* * * * *

9.0 Exchanges and Refunds

* * * * *

9.5 Priority Mail Express Postage and Fees Refunds

[Revise the heading of 9.5.1 to read as follows:]

9.5.1 Priority Mail Express Delivery

[Revise the text of 9.5.1 to read as follows:]

For Priority Mail Express 1-day, 2-day, and 3-day delivery, the USPS refunds the postage and Sunday or holiday premium fee for an item not delivered, for an item for which delivery was not attempted, or if the item was not made available for claim by the delivery date and time specified at the time of mailing, subject to the standards for this service, unless the delay was caused by one of the situations in 9.5.5.

* * * * *

Colleen Hibbert-Kapler,
Attorney, Ethics and Legal Compliance.

[FR Doc. 2025-05514 Filed 3-31-25; 8:45 am]

BILLING CODE P